DEPARTMENT OF COMMERCE

National Oceanic and Atmospheric Administration

RIN 0648-XF115

Fisheries of the Caribbean, Gulf of Mexico, and South Atlantic; Snapper-Grouper Fishery Off the South Atlantic States; Amendment 43

AGENCY: National Marine Fisheries Service (NMFS), National Oceanic and Atmospheric Administration (NOAA), Commerce.

ACTION: Notice of Intent (NOI) to prepare a draft environmental impact statement (DEIS); request for comments.

SUMMARY: The NMFS Southeast Region, in collaboration with the South Atlantic Fishery Management Council (Council), intends to prepare a DEIS to describe and analyze a range of alternatives for management actions to be included in Amendment 43 to the Fishery Management Plan (FMP) for the Snapper-Grouper Fishery of the South Atlantic Region (Amendment 43). The purpose of Amendment 43 is to respond to the most recent stock assessment for red snapper in the South Atlantic, reduce discards of red snapper, and improve the quantity and quality of data collected from private recreational fishermen. This NOI is to solicit public comments on the scope of issues to be addressed in the DEIS.

DATES: Written comments on the scope of issues to be addressed in the DEIS will be accepted until February 6, 2017.

ADDRESSES: You may submit comments, identified by NOAA-NMFS-2016-0157, by either of the following methods:

• Electronic submission: Submit all electronic public comments via the Federal e-Rulemaking Portal. Go to www.regulations.gov/#!docketDetail;D=NOAA-NMFS-2016-0157, click the “Comment Now!” icon, complete the required fields, and enter or attach your comments.

• Mail: Submit written comments to Frank Helies, NMFS Southeast Regional Office, 263 13th Avenue South, St. Petersburg, FL 33701.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

FOR FURTHER INFORMATION CONTACT: Frank Helies, NMFS Southeast Regional Office, telephone: 727-824-5305; or email: frank.helies@noaa.gov.

SUPPLEMENTARY INFORMATION: South Atlantic red snapper were determined to be overfished and undergoing overfishing in the 2009 Southeast Data, Assessment, and Review (SEDAR) stock assessment (SEDAR 15). In response to SEDAR 15, the Council recommended and NMFS subsequently implemented a prohibition on all harvest or possession of South Atlantic red snapper through Amendment 17A to the FMP (75 FR 76874, December 9, 2010). Through management measures implemented in Amendment 28 to the FMP, limited seasons for the harvest of red snapper occurred in the 2012, 2013, and 2014 fishing years (78 FR 44461, July 24, 2013). However, red snapper removals (total landings and dead discards) in the 2014 and 2015 fishing years exceeded the acceptable biological catch (ABC) and subsequent seasons' annual catch limits (ACLs) were set to zero and harvest and possession of red snapper was not allowed in the 2015 or 2016 fishing years.

According to the most recent stock assessment, the red snapper stock in the South Atlantic is undergoing overfishing and is overfished (SEDAR 41 2016). The Council's Scientific and Statistical Committee (SSC) reviewed SEDAR 41 in May 2016 and considered the assessment to be best scientific information available. In response to SEDAR 41 and the SSC's recommendation, the Council is considering changes to the ACLs, the recreational annual catch target, and management reference points.

Discard mortality, particularly from the recreational sector, continues to be a significant source of overall mortality for red snapper. Therefore, the Council is considering methods to reduce discard mortality in Amendment 43 including spatial and temporal closures (where harvest of all snapper-grouper species would be prohibited), changes to allowable fishing gear types (e.g., circle hooks), and requiring the use of descending devices and/or venting tools for released fish.

Finally, the Council is evaluating ways to improve the quantity and quality of data collected from private recreational fishermen. The goal is to improve the data that are used to assess and manage the red snapper stock in the South Atlantic. The Council is considering a Federal permit requirement for private recreational fishermen to fish for or possess snapper-grouper species and a requirement for private recreational fishermen to complete electronic logbooks.

NMFS, in collaboration with the Council, will develop a DEIS for Amendment 43 to describe and analyze alternatives to address the management needs described above, including the “no action” alternative. In accordance with the regulations issued by the Council on Environmental Quality (CEQ) for implementing the National Environmental Policy Act (NEPA; 40 CFR parts 1500-1508), NMFS, in collaboration with the Council, has identified preliminary environmental issues as a means to initiate discussion for scoping purposes only. These preliminary issues may not represent the full range of issues that eventually will be evaluated in the DEIS. A copy of the Amendment 43 draft options paper is available at: http://sero.nmfs.noaa.gov/sustainable_fisheries/s_atl/sg/index.html.

Comments on the scope of the DEIS may be submitted in writing to NMFS (see ADDRESSES) during the 30-day scoping period. After the scoping period and throughout the development of Amendment 43, the Council will accept written comments on the action, and oral comments may be made during upcoming public scoping meetings. The upcoming scoping meetings will be held at locations and times listed in Table 1.

Table 1—Scoping Meetings
January 18, 2017—6 p.m., listening station | January 19, 2017—6 p.m., listening station.
Harvey Government Center, 1200 Truman Avenue, 2nd Floor, Key West, FL 33040 | Hyatt Place Marathon, 1996 Overseas Highway, Marathon, FL 33050.
January 23, 2017—6 p.m., in-person meeting | January 24, 2017—6 p.m., in-person meeting.
Lexington Hotel & Conference Center, 1515 Prudential Drive, Jacksonville, FL 32207 | Hilton Cocoa Beach Oceanfront, 1550 North Atlantic Avenue, Cocoa Beach, FL 32931.
January 25, 2017—6 p.m., in-person meeting | January 26, 2017—6 p.m., in-person meeting.
Flagler Place, 201 SW Flagler Avenue, Stuart, FL 34994 | Hilton Key Largo, 97000 Overseas Highway, Key Largo, FL 33037.
January 30, 2017—6 p.m., in-person meeting | January 31, 2017—6 p.m., in-person meeting.
Murrells Inlet Community Center, 4462 Murrells Inlet Road, Murrells Inlet, SC 29576 | Crowne Plaza, 4831 Tanger Outlet Boulevard, North Charleston, SC 29418.
February 1, 2017—6 p.m., in-person meeting | February 6, 2017—6 p.m., in-person meeting.
Richmond Hill City Center, 520 Cedar Street, Richmond Hill, GA 31324 | Hilton Wilmington Riverside, 201 N. Water Street, Wilmington, NC 28401.
February 7, 2017—6 p.m., in-person meeting | February 8, 2017—6 p.m., in-person meeting.
Hatteras Community Center, 57689 NC Highway 12, Hatteras, NC 27943 | Doubletree by Hilton, 2717 W. Fort Macon Road, Atlantic Beach, NC 28512.

After the DEIS associated with Amendment 43 is completed, it will be filed with the Environmental Protection Agency (EPA). After filing, the EPA will publish a notice of availability of the DEIS for public comment in the Federal Register. Consistent with the CEQ regulations, the DEIS will have a 45-day public comment period.

The Council and NMFS will consider public comments received on the DEIS in developing the final environmental impact statement (FEIS) and before adopting final management measures for the amendment. NMFS will submit the consolidated final amendment and supporting FEIS to the Secretary of Commerce (Secretary) for review as required by the Magnuson-Stevens Fishery Conservation and Management Act.

NMFS will announce, through a notification in the Federal Register, the availability of the final amendment for public review during the Department of Commerce Secretarial review period and will consider all public comments. During Secretarial review, NMFS will also file the FEIS with the EPA, and the EPA will publish a notice of availability for the FEIS in the Federal Register. This public comment period is expected to be concurrent with the Secretarial review period and will end prior to final agency action to approve, disapprove, or partially approve the Amendment 43.

NMFS will announce, through a document published in the Federal Register, all public comment periods on the final amendment, its proposed implementing regulations, and the availability of its associated FEIS. NMFS will consider all public comments received during the Secretarial review period, whether they are on the final amendment, the proposed regulations, or the FEIS, prior to final agency action.

Authority: 16 U.S.C. 1801 et seq.

Dated: December 30, 2016.
Alan D. Risenhoover,
Director, Office of Sustainable Fisheries, National Marine Fisheries Service.

[FR Doc. 2016-32049 Filed 1-5-17; 8:45 am]

BILLING CODE 3510-22-P